DEPARTMENT OF TRANSPORTATION

National Highway Traffic Safety Administration

[Docket No. NHTSA-2013-0039; Notice 2]

General Motors, LLC, Grant of Petition for Decision of Inconsequential Noncompliance

AGENCY: National Highway Traffic Safety Administration (NHTSA), Department of Transportation (DOT).

ACTION: Grant of Petition.

SUMMARY: General Motors, LLC (GM) has determined that certain model year (MY) 2013 Chevrolet Equinox multipurpose passenger vehicles (MPVs) manufactured on January 24, 2013 do not fully comply with paragraph S6 of Federal Motor Vehicle Safety Standard (FMVSS) No. 205, Glazing Materials. GM filed an appropriate report dated February 22, 2013, pursuant to 49 CFR Part 573, Defect and Noncompliance Responsibility and Reports.

ADDRESSES: For further information on this decision contact Luis Figueroa, Office of Vehicle Safety Compliance, the National Highway Traffic Safety Administration (NHTSA), telephone (202) 366-5298, facsimile (202) 366-5930.

SUPPLEMENTARY INFORMATION:

I. GM's Petition

Pursuant to 49 U.S.C. 30118(d) and 30120(h) and the rule implementing those provisions at 49 CFR Part 556, GM has petitioned for an exemption from the notification and remedy requirements of 49 U.S.C. Chapter 301 on the basis that this noncompliance is inconsequential to motor vehicle safety.

Notice of receipt of the petition was published, with a 30-day public comment period, on November 1, 2013 in the Federal Register (78 FR 65760). No comments were received. To view the petition and all supporting documents log onto the Federal Docket Management System (FDMS) Web site at: http://www.regulations.gov/. Then follow the online search instructions to locate docket number “NHTSA-2013-0039.”

II. Vehicles Involved

Affected are approximately 170 MY 2013 Chevrolet Equinox MPVs manufactured on January 24, 2013.

III. Noncompliance

GM explains that the noncompliance is that the vehicles are equipped with left-rear quarter windows that do not fully comply with the marking requirements specified in paragraph S6 of FMVSS No. 205.

GM further explained that the subject vehicles may be purchased with either solar glazing (having light transmittance greater than 70%) or privacy glazing (having light transmittance of approximately 22%) installed rearward of the driver. On the affected vehicles, the left-rear quarter window is privacy glazing; however it has markings appropriate for solar glazing. The correct privacy-glass markings and the markings on the affected quarter windows are as follows:

The specific noncompliance to FMVSS No. 205 on the subject quarter windows is the AS2 designation (instead of AS3) and the M504 model designation (instead of M513). The transmissibility value on the subject windows is also incorrect (70% instead of 22%); however, this information is not specified by FMVSS No. 205 and therefore is not a compliance issue.

IV. Rule Text

Paragraph S6 of FMVSS No. 205 specifically states:

S6. Certification and marking.

S6.1 A prime glazing material manufacturer must certify, in accordance with 49 U.S.C. 30115, each piece of glazing material to which this standard applies that is designed—

(a) As a component of any specific motor vehicle or camper; or

(b) To be cut into components for use in motor vehicles or items of motor vehicle equipment.

S6.2 A prime glazing manufacturer certifies its glazing by adding to the marks required by section 7 of ANSI/SAE Z26.1-1996, in letters and numerals of the same size, the symbol “DOT” and a manufacturer's code mark that NHTSA assigns to the manufacturer. NHTSA will assign a code mark to a manufacturer after the manufacturer submits a written request to the Office of Vehicle Safety Compliance, National Highway Traffic Safety Administration, 400 Seventh Street, SW., Washington, DC 20590. The request must include the company name, address, and a statement from the manufacturer certifying its status as a prime glazing manufacturer as defined in S4.

S6.3 A manufacturer or distributor who cuts a section of glazing material to which this standard applies, for use in a motor vehicle or camper, must—

(a) Mark that material in accordance with section 7 of ANSI/SAE Z26.1-1996; and

(b) Certify that its product complies with this standard in accordance with 49 U.S.C. 30115.

V. Summary of GM's Analyses

GM stated its belief that this noncompliance is inconsequential to motor vehicle safety for the following reasons:

1. The subject glazing meets all applicable performance requirements of FMVSS No. 205. There is no safety performance implication associated with this technical noncompliance.

2. In addition to meeting all of the component-level performance requirements of FMVSS No. 205, the subject glazing also fully meets the vehicle-level installation requirements specified by FMVSS No. 205. The subject tempered-glass glazing at 22% transmissibility is permitted in the left-rear quarter window location on the affected vehicles.

3. The actual transmissibility of the subject glazing (approximately 22%) is consistent with all other glazing rearward of the driver (i.e., the rear side windows, the back window, and the right-side rear quarter glazing) on the affected vehicles. Accordingly, there is no reason for the customer, state inspection authorities, service personnel, or anyone else to focus on or detect any distinction involving the subject left-side rear quarter window.

4. None of the subject population of glazing will be available as service parts. Therefore, if service replacement of the left-rear quarter window on an affected vehicle is required, the replacement part would be correct and properly labeled in accordance with all FMVSS No. 205 requirements.

5. Even in the extremely unlikely event that a glazing corresponding to the incorrect markings (i.e., solar glazing with 70% transmittance) was installed on an affected vehicle, this would also be fully compliant to all requirements of FMVSS No. 205, including the component-level, vehicle-level and marking requirements of the standard.

GM also stated its belief that NHTSA has previously granted inconsequential treatment for FMVSS No. 205 marking noncompliances.

GM has additionally informed NHTSA that it has corrected the noncompliance so that all future production vehicles will comply with FMVSS No. 205.

In summation, GM believes that the described noncompliance of its vehicles is inconsequential to motor vehicle safety, and that its petition, to exempt from providing recall notification of noncompliance as required by 49 U.S.C. 30118 and remedying the recall noncompliance as required by 49 U.S.C. 30120 should be granted.

VI. NHTSA Decision

The agency agrees with GM that the noncompliance is inconsequential to motor vehicle safety. The agency believes that the true measure of inconsequentiality to motor vehicle safety in this case is that there is no effect of the noncompliance on the operational safety of the subject vehicles in which the subject glazing is used. In the agency's judgment, this noncompliance to the labeling requirements in FMVSS 205 will have an inconsequential effect on motor vehicle safety because:

The affected vehicles are equipped with solar glazing and privacy glazing. While the light transmittance value that appears on the affected glazing was not marked in accordance with GM's requirements, there is no FMVSS No. 205 labeling requirement for light transmittance value.

The subject glazing meets the component level and the vehicle-level installation requirements specified by FMVSS No. 205. The subject glazing meets all performance requirements specified by FMVSS 205. None of the subject population of glazing will be available as service parts. If service replacement of the left-rear quarter window on an affected vehicle is required, the replacement part would be correct and properly labeled in accordance with all FMVSS No. 205 requirements. Therefore, there are no safety implication concerns with this noncompliance.

In consideration of the foregoing, NHTSA has decided that GM has met its burden of persuasion that the FMVSS No. 205 noncompliance is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject nonconforming vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: 49 U.S.C. 30118, 30120: delegations of authority at 49 CFR 1.95 and 501.8.

Jeffrey M. Giuseppe,
Acting Director, Office of Vehicle Safety Compliance.

[FR Doc. 2014-09498 Filed 4-25-14; 8:45 am]

BILLING CODE 4910-59-P